DEPARTMENT OF TRANSPORTATION

Federal Aviation Administration

Public Notice for Waiver of Aeronautical Land-Use Assurance

AGENCY: Federal Aviation Administration (FAA), DOT.

ACTION: Notice of intent of waiver with respect to land; Wayne County Airport, Wooster, Ohio.

SUMMARY: The FAA is considering a proposal to change approximately 44.7 acres of airport land from aeronautical use to non-aeronautical use and to authorize the sale of airport property located at Wayne County Airport, Wooster, Ohio. The aforementioned land is not needed for aeronautical use.

The property is located near the southeast corner of Geyers Chapel Road (T.R. 68) and Hutton Road (C.R. 78). The property is currently being farmed and the proposed use after the sale would be farmland.

DATES: Comments must be received on or before January 27, 2014.

ADDRESSES: Documents are available for review by appointment at the FAA Airports District Office, Irene Porter, Program Manager, 11677 South Wayne Road, Suite 107, Romulus, Michigan 48174 Telephone: (734) 229-2900/Fax: (734) 229-2950 and Wayne County Commissioners, 428 West Liberty Street, Wooster, Ohio, (330) 287-5400.

Written comments on the Sponsor's request must be delivered or mailed to: Irene Porter, Program Manager, Federal Aviation Administration, Airports District Office, 11677 South Wayne Road, Suite 107, Romulus, Michigan 48174, Telephone Number: (734) 229-2900/FAX Number: (734) 229-2950.

FOR FURTHER INFORMATION CONTACT: Irene Porter, Program Manager, Federal Aviation Administration, Airports District Office, 11677 South Wayne Road, Suite 107, Romulus, Michigan 48174. Telephone Number: (734) 229-2900/FAX Number: (734) 229-2950.

SUPPLEMENTARY INFORMATION: In accordance with section 47107(h) of Title 49, United States Code, this notice is required to be published in the Federal Register 30 days before modifying the land-use assurance that requires the property to be used for an aeronautical purpose.

The property was originally acquired by the County for the ultimate development of a cross-wind runway for the airport. The Federal Aviation Administration (FAA) participated in the acquisition of this property under Airport Improvement Program grant 3-39-0093-02. Current FAA standards do not require a cross-wind runway at this airport. The sponsor is now proposing to sell this parcel for Fair Market Value and utilize the proceeds to help improve the existing airport infrastructure and bring it up to FAA standards.

The disposition of proceeds from the sale of the airport property will be in accordance with FAA's Policy and Procedures Concerning the Use of Airport Revenue, published in the Federal Register on February 16, 1999 (64 FR 7696).

This notice announces that the FAA is considering the release of the subject airport property at the Wayne County Airport, Wooster, Ohio from federal land covenants, subject to a reservation for continuing right of flight as well as restrictions on the released property as required in FAA Order 5190.6B section 22.16. Approval does not constitute a commitment by the FAA to financially assist in the disposal of the subject airport property nor a determination of eligibility for grant-in-aid funding from the FAA.

Situated in the State of Ohio, County of Wayne, Township of Wayne in the southwest quarter of Section 12, T-16N, R-13W and being part of the land described in deeds to The Board of County Commissioners, Wayne County, Ohio recorded in deed volume 426, page 153, volume 555, page 185 and volume 600, page 281 of Wayne County records.

Described as follows:

Commencing at a one inch diameter steel pin found in the intersection of Geyers Chapel Road (Township Road 68) and Hutton Road (County Road 78) marking northwest corner of the southwest quarter of Section 12.

Thence N 89°40′14″ E 430.52 feet, along the north line of the quarter section and in Hutton Road, to the Point of Beginning for the parcel herein described—witnessed by a capped reference pin set S 17°07′20″ W 28.90 feet.

Thence with the following SEVEN courses:

(1) N 89°40′14″ E 1214.67 feet, along the north line of the quarter section and in Hutton Road, to a ⅝ inch diameter steel pin found at the northwest corner of James E. and Janet E. Kasserman, Trustees as described in official record volume 684, page 1857—witnessed by a capped reference pin found S 00°22′01″ E 23.00 feet.

(2) S 00°22′01″ E 1304.74 feet, along the west line of Kasserman, to a 3/4 inch diameter steel pin found.

(3) S 89°32′39″ W 1624.85 feet to a point on the west line of the quarter section—witnessed by a capped reference pin set N 89°32′39″ E 13.98 feet.

(4) N 01°15′27″ W 721.03 feet, along the west line of the quarter section, to a point- witnessed by a capped reference pin set N 88°44′33″ E 10.26 feet.

(5) N 88°44′33″ E 151.46 feet to a capped pin set.

(6) N 39°48′02″ E 211.97 feet to a capped pin set.

(7) N 17°07′20″ E 443.27 feet to the Point of Beginning.

This parcel contains 44.713 acres.

Issued in Romulus, Michigan, on December 5, 2013.
John L. Mayfield, Jr.,
Manager, Detroit Airports District Office, Federal Aviation Administration, Great Lakes Region.

[FR Doc. 2013-31074 Filed 12-26-13; 8:45 am]

BILLING CODE 4910-13-P